DEPARTMENT OF COMMERCE

Office of the Secretary

15 CFR Part 4

[Docket No. 060518134-6246-02]

RIN 0605-AA22

Disclosure of Government Information; Responsibility for Responding to Freedom of Information Act Requests

AGENCY: Department of Commerce.

ACTION: Final rule.

SUMMARY: The Department of Commerce (Commerce) publishes this action to finalize its interim final rule that established the date that the Department uses in identifying those records that it may consider when responding to a Freedom of Information Act request. The Department takes this action pursuant to a court order that enjoined it from further use of its regulations.

DATES: This rule is effective on May 31, 2007.

FOR FURTHER INFORMATION CONTACT: Brenda Dolan, 202-482-3258.

SUPPLEMENTARY INFORMATION: On June 1, 2006, the Department of Commerce published and requested comments on an interim final rule that amended its regulations to establish the date that the Department uses in identifying those records that it may consider when responding to a Freedom of Information Act request (71 FR 31073). The interim final rule revised the regulations to state that the records that are considered responsive to a FOIA request include those records that are within the Department's possession and control as of the date the Department begins its search for those records. We received no public comments on the interim final rule. Therefore, the provisions of the interim final rule published on June 1, 2006 are adopted without change.

Classification

It has been determined that this notice is not significant for purposes of E.O. 12866.

The Department finds good cause to waive the 30-day delay in effectiveness required by 5 U.S.C. 553(d)(3). In order to implement, in a timely manner, the Department's new regulation that establishes the date that the Department uses in identifying those records that it may consider when responding to a request for records, the Department waives the 30-day delay in effectiveness. If the Department delayed the effectiveness of this action, the Department would violate an April 24, 2006 court order that requires the Department to no longer use the regulations. To ensure timely compliance with the Court's order, the Department makes this rule effective upon publication.

Dated: May 23, 2007.
Brenda Dolan,
Departmental Freedom of Information and Privacy Act Officer.

List of Subjects in 15 CFR Part 4

Freedom of Information and Privacy.

For the reasons set forth above, the Department adopts without change the provisions in the interim final rule published on June 1, 2006 (71 FR 31073).

[FR Doc. E7-10435 Filed 5-30-07; 8:45 am]

BILLING CODE 3510-17-P